DEPARTMENT OF THE INTERIOR

Fish and Wildlife Service

Notice of Intent To Prepare a Comprehensive Conservation Plan (CCP) and Associated Environmental Assessment (EA) for Pierce National Wildlife Refuge (NWR), Franz Lake NWR, and Steigerwald Lake NWR, and Notification of Two Public Scoping Meetings

AGENCY: Fish and Wildlife Service, Interior.

ACTION: Notice of Intent to Prepare a Comprehensive Conservation Plan and Associated Environmental Assessment for Pierce National Wildlife Refuge (NWR), Franz Lake NWR, and Steigerwald Lake NWR, Clark and Skamania Counties, Washington.

SUMMARY: This notice advises the public that the U.S. Fish and Wildlife Service (Service) is preparing a Comprehensive Conservation Plan (CCP) and Environmental Assessment (EA) for Pierce NWR, Franz Lake NWR, and Steigerwald Lake NWR (refuges [collectively]), and announces two public scoping meetings. The refuges are located in the state of Washington, in the Columbia River Gorge, in Clark and Skamania Counties. The Service is furnishing this notice in compliance with Service CCP policy and the National Environmental Policy Act (NEPA) and implementing regulations for the following purposes: (1) To advise other agencies and the public of our intentions; (2) to obtain suggestions and information on the issues to be addressed in the CCP; and (3) to announce public meetings for scoping. It is estimated that the draft CCP and EA will be available for public review in October 2000.

DATES: Two public meetings are scheduled. The dates are September 20 and 21, 2000, see Public Meetings under Supplementary Information in this notice for locations and times. Submit scoping comments on or before October 6, 2000, to the Project Leader, Ridgefield NWR, the address follows.

ADDRESSES: Address comments, requests for more information, or requests to be added to the mailing list for this project to: Project Leader, Ridgefield NWR Complex, P.O. Box 457, Ridgefield, Washington 98642.

FOR FURTHER INFORMATION CONTACT: Tom Melanson, Project Leader, (360) 887-4106.

SUPPLEMENTARY INFORMATION:

Background

The Service initiated development of a management plan for these refuges in 1990 but this planning effort was postponed due to anticipated changes in refuge planning procedure and policy. Two public meetings were held during this period to collect comments and suggestions from the public on how the refuges should be managed. The information obtained from these meetings, as well as new information to be collected during the current project scoping process, will be incorporated into the CCP.

The refuges are located within the Columbia River Gorge National Scenic Area, administered by the U.S. Forest Service. The Management Plan for the Scenic Area, adopted by the Columbia River Gorge Commission on October 15, 1991, called for the development of “gateway facilities” at major entry ways to the Scenic Area. Steigerwald Lake NWR was selected as the northwest gateway. The Service signed a Finding of No Significant Impact on December 23, 1999, for a proposed visitor center (Gateway Center) and interpretive trail at Steigerwald Lake NWR to accommodate wildlife-associated recreation, interpretation, and environmental education. Development of the Gateway Center, parking lot, interpretive trail, and associated infrastructure will not be addressed in the CCP. Construction will begin when Congress allocates funding for the project.

Current Planning Effort

The Service is beginning the process of developing a 15-year management plan for Pierce NWR, Franz Lake NWR, and Steigerwald Lake NWR. The plan will include the following topics: (1) Significant problems adversely affecting resources within the refuges; (2) long-term goals, objectives and strategies for the refuges, consistent with the National Wildlife Refuge System mission and other legal mandates; (3) compatible public uses of the refuges, including but not limited to wildlife observation and photography, environmental education and interpretation, and hiking; and (4) refuge facility, staffing and maintenance requirements.

Preliminary Issues

The following preliminary issues and questions have been identified and will be addressed in the CCP. Additional issues will be identified during public scoping.

1. How should the Service manage exotic and invasive plants and animals? Invasive species are non-native organisms possessing a fast reproductive rate and ability to spread rapidly. Invasive species reduce native plant and animal diversity by out-competing natives for space and resources. While all three refuges support non-native species, not all non-native species are considered invasive. Several exotic species of “tame” pasture grass are actively managed to provide browse for geese and other waterfowl. The invasive plant species of greatest concern for the refuges include Himalayan blackberry, reed canarygrass, tansy, leafy spurge, Canada thistle, and knapp weed. Invasive species of wildlife on the refuges include bullfrogs, nutria, and warm-water fish such as carp and bass. Bullfrogs, which were originally introduced to the western states from the east, are voracious predators of native amphibians and reptiles. There are a number of other non-native species in the Columbia River that have a high potential to invade the refuges. Although it may be impossible to eliminate invasive species from the refuges, measures can be taken to reduce their impact and prevent further invasions. Certain invasive species can be controlled using mechanical, chemical, and biological methods. Tansy and Canada thistle can be spot-treated with herbicides. Non-native fish and the eggs and tadpoles of bullfrogs can be controlled by seasonal drainage of ponds. Adult bullfrogs can be intensively harvested to reduce local populations. While these measures have proven to be effective, they are labor intensive, costly, and can have unintended short-term impacts to native species.

2. What management actions should be taken to protect and restore aquatic resources, particularly rare and declining species? Surface water is a common feature to all three refuges. The numerous springs, streams, sloughs, and ponds provide important habitat for a great variety of native wildlife, including rare and declining species. Pierce NWR supports one of only three remaining runs of chum salmon in the lower Columbia River. In addition to chum, a small run of coho and a few remnant fall chinook and steelhead also spawn in Hardy Creek, although upstream migration is precluded by concrete culverts on the creek at State Highway 14 and the Burlington Northern Railroad. Adult coho salmon, winter steelhead, Pacific lamprey, and river lamprey return to Gibbons Creek at Steigerwald Lake NWR to spawn in the upper watershed, which also supports resident cutthroat trout. The refuges also provide important habitat for pond breeding amphibians and reptiles such as Western toad and painted turtle. Aquatic resources are threatened by invasive species and impacts to water quality resulting from development in the watershed above the refuges.

3. How should the Service manage wetlands and what should be the role of water level manipulations in this management? Protection of riverine wetlands such as Franz and Arthur Lakes and Hardy Slough provides partial mitigation for the extensive loss of tidally influenced wetlands resulting from the construction of hydroelectric projects on the Columbia River. Releases from Bonneville Dam cause water levels in these wetlands to fluctuate widely, and the Columbia River levee prevents seasonal flooding of bottomland habitat at Steigerwald Lake NWR. The refuges partially compensate for these impacts by constructing and operating internal levees and water control structures. Certain areas of Steigerwald Lake NWR and Pierce NWR are seasonally flood irrigated to improve goose browse, control invasive species, and enhance wildlife production. Additional measures could be taken to improve the water supply and delivery system (e.g., drill wells and construct pipelines). However, the diverse and possibly conflicting needs of multiple species must be considered.

4. What opportunities exist to restore riparian areas on the refuges? Riparian areas on the refuges have been substantially altered from their historic condition as a result of cattle grazing, land clearing, stream diversions, levee construction and hydroelectric projects. Restoration of degraded riparian areas has included such actions as fencing out cattle, relocating roads, and planting buffer strips. Extreme fluctuations in water elevations resulting from operation of Bonneville Dam continue to cause bank erosion. Similar impacts occur from wave action caused by traffic on the Columbia River. Water temperatures are elevated in some stream reaches due to inadequate amounts of shade.

5. How should the Service manage upland vegetation to benefit wildlife resources? Upland areas of the refuges support mixed coniferous and hardwood forests and grasslands. Historic land uses, especially logging and ranching, resulted in conversion of bottom land forest to pasture. These grasslands today consist primarily of introduced pasture grasses and exotics. The forest understory consists of native and non-native species. The Indian Mary Creek watershed above State Highway 14 is heavily forested. Grassland management consists of weed control, haying or mowing, grazing and other pasture improvements as necessary for production of goose browse. Riparian hardwoods have been planted in some areas to restore bottomland forest cover.

6. Does the public desire access to the refuges? What opportunities exist to open the refuges to compatible public uses, and how should these uses be managed to protect refuge resources? The refuges are located in the Columbia River Gorge National Scenic Area. Steigerwald Lake NWR is one of four designated “gateways” to the Scenic Area. In establishing the Scenic Area, Congress intended federal, state and local governments to work cooperatively “to protect and provide for the enhancement of the scenic, cultural, recreational and natural resources of the Columbia River Gorge.” Recreation, while given equal weight in Scenic Area directives, must be compatible with the refuges' purposes for inclusion in refuge programs. Currently, the refuges are closed to public use with the exception of requested staff-led tours. Construction of the Gateway Center and interpretive trail was approved in December of 1999, and will commence at Steigerwald Lake NWR in the near future. Opportunities to provide similar public uses at Franz Lake NWR and Pierce NWR are limited by access across a busy railroad track. With any increase in human visitation, the potential for disturbance to wildlife and the incidence of trespass, vandalism, and littering is anticipated to increase.

Public Comments

With the publication of this notice, the public is encouraged to attend public meetings and submit written comments for staff to consider in developing the CCP. Comments received shall be used to identify issues and draft preliminary alternatives. Comments already received are on record and need not be resubmitted.

All comments received from individuals on Environmental Assessments and Environmental Impact Statements become part of the official public record. Requests for such comments will be handled in accordance with the Freedom of Information Act, the Council on Environmental Quality's NEPA regulations [40 CFR 1506.6(f)], and other Service and Departmental policy and procedures. When requested, the Service generally will provide comment letters with the names and addresses of the individuals who wrote the comments. However, the telephone number of the commenting individual will not be provided in response to such requests to the extent permissible by law. Additionally, public comment letters are not required to contain the commentator's name, address, or other identifying information. Such comments may be submitted anonymously to the Service.

The environmental review of this project will be conducted in accordance with the requirements of the National Environmental Policy Act of 1969, as amended (42 U.S.C. 4321 et seq.), NEPA Regulations (40 CFR 1500-1508), other appropriate Federal laws and regulations, the National Wildlife Refuge System Improvement Act of 1997, and Service policies and procedures for compliance with those regulations.

Public Meetings

Two public scoping meetings will be held in September. Dates, locations, and times follow. The format will be a presentation on the planning process and the refuges followed by facilitated discussions to gather public comments. The dates, times, and locations of the public meetings follow.

September 20, 2000, 7 pm to 9 pm, Jemtegaard Middle School, 35300 Evergreen Blvd., Washougal, Washington.

September 21, 2000, 7 pm to 9 pm, Rock Creek Center, 710 SW Rock Creek Drive, Stevenson, Washington.

Dated: August 21, 2000.
Don Weathers,
Acting Regional Director, Region 1, Portland, Oregon.

[FR Doc. 00-21863 Filed 8-25-00; 8:45 am]

BILLING CODE 4310-55-P